ENVIRONMENTAL PROTECTION AGENCY

[EPA R9-2019-05; FRL-10000-77-Region 9]

Notice of Proposed Administrative Settlement Agreement and Order on Consent for Removal Site Evaluation and Removal Action for the Offsite Operable Unit of the Triple Site, Sunnyvale, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”), has entered into a proposed settlement, embodied in an Administrative Settlement Agreement and Order on Consent for Removal Site Evaluation and Removal Action (“Settlement Agreement”), with Advanced Micro Devices, Inc. (“AMD”), Northrop Grumman Systems Corporation (“NGC”), and Philips Semiconductors, Inc. (“PSI”). Under the Settlement Agreement, AMD, NGC, and PSI agree to carry out a removal action to investigate and address vapor intrusion in the Offsite Operable Unit (“OOU”) of the Triple Site located in Sunnyvale, California. In addition, AMD, NGC, and PSI agree to pay EPA compromised past costs incurred by EPA at the OOU and future response costs incurred by EPA at the OOU during the cleanup.

DATES: Comments must be received on or before November 4, 2019.

ADDRESSES: The Settlement Agreement is available for public inspection at the United States Environmental Protection Agency, Superfund Records Center, 75 Hawthorne Street, Room 3110, San Francisco, California 94105. Telephone: 415-947-8717. Comments should be addressed to Rebekah Reynolds, Assistant Regional Counsel, Office of Regional Counsel (ORC-3), U.S. Environmental Protection Agency, 75 Hawthorne Street, San Francisco, CA 94105; or Email: reynolds.rebekah@epa.gov; and should reference the Offsite Operable Unit, Triple Site, EPA R9-2019-05. EPA's response to any comments received will be available for public inspection at the same address.

FOR FURTHER INFORMATION CONTACT: Rebekah Reynolds, Assistant Regional Counsel (ORC-3), Office of Regional Counsel, U.S. EPA Region IX, 75 Hawthorne Street, San Francisco, CA 94105; Email: reynolds.rebekah@epa.gov; Phone (415) 972-3816.

SUPPLEMENTARY INFORMATION: Notice of this proposed administrative settlement is made in accordance with the Section 122(i) of CERCLA. The Settlement Agreement concerns work to be done by AMD, NGC, and PSI in connection with the OOU of the Triple Site, located in Sunnyvale, California. Parties to the Settlement Agreement include the EPA, AMD, NGC, and PSI. The Site that is the subject of this Settlement Agreement includes all portions of the OOU where CERCLA hazardous substances are located. Under this Settlement Agreement, AMD, NGC and PSI agrees to carry out a removal action to investigate and address vapor intrusion. The performance of this work by AMD, NGC, and PSI shall be approved and monitored by EPA. The settlement includes a covenant not to sue pursuant to Sections 106 or 107(a) of CERCLA.

Under the Settlement Agreement, AMD, NGC, and PSI also agree to pay EPA $3,143,623.42 in past response costs. This represents a compromise payment for past costs incurred by EPA. EPA is also entitled to reimbursement of additional future response costs. EPA will consider all comments received on the Settlement Agreement in accordance with the DATES and ADDRESSES sections of this Notice and may modify or withdraw its consent to the Settlement Agreement if comments received disclose facts or considerations that indicate that the settlement is inappropriate, improper, or inadequate.

Dated: September 23, 2019.
John Lyons,
Acting Director, Superfund Division, EPA Region 9.

[FR Doc. 2019-21688 Filed 10-3-19; 8:45 am]

BILLING CODE 6560-50-P